DEPARTMENT OF TRANSPORTATION

Federal Aviation Administration

14 CFR Part 39

[Docket No. FAA-2005-23314; Directorate Identifier 2005-NM-189-AD; Amendment 39-14523; AD 2006-06-14]

RIN 2120-AA64

Airworthiness Directives; Airbus Model A318-100 and A319-100 Series Airplanes, A320-111 Airplanes, A320-200 Series Airplanes, and A321-100 and A321-200 Series Airplanes

AGENCY: Federal Aviation Administration (FAA), Department of Transportation (DOT).

ACTION: Final rule.

SUMMARY: The FAA is adopting a new airworthiness directive (AD) for certain Airbus Model A318-100 and A319-100 series airplanes, A320-111 airplanes, A320-200 series airplanes, and A321-100 and A321-200 series airplanes. This AD requires operators to review the airplane's maintenance records to determine the part numbers of the magnetic fuel level indicators (MFLI) of the wing fuel tanks, and related investigative and corrective actions if necessary. This AD results from several in-service incidents of wear and detachment of the top-stops from the MFLI. Such detachment allows the top-stop to move around the wing fuel tank, and the top-stop could come into contact or in close proximity with a gauging probe, resulting in compromise of the air gap between the probe and the structure and creating a potential ignition source. We are issuing this AD to prevent an ignition source in the wing fuel tank in the event of a lightning strike, which could result in a fire or explosion.

DATES: This AD becomes effective May 1, 2006.

The Director of the Federal Register approved the incorporation by reference of a certain publication listed in the AD as of May 1, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tim Dulin, Aerospace Engineer, International Branch, ANM-116, Transport Airplane Directorate, FAA, 1601 Lind Avenue, SW., Renton, Washington 98055-4056; telephone (425) 227-2141; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A318-100 and A319-100 series airplanes, A320-111 airplanes, A320-200 series airplanes, and A321-100 and A321-200 series airplanes. That NPRM was published in the Federal Register on December 15, 2005 (70 FR 74235). That NPRM proposed to require operators to review the airplane's maintenance records to determine the part numbers of the magnetic fuel level indicators (MFLI) of the fuel tank, and related investigative and corrective actions if necessary.

Comments

We provided the public the opportunity to participate in the development of this AD. We have considered the comments received from one commenter.

Request To Clarify Affected Fuel Tanks

US Airways asks that the NPRM be changed to add that the affected fuel tanks are wing fuel tanks only. US Airways states that the type of fuel tank is specified in the referenced service bulletin. We agree with US Airways and have clarified that only the wing fuel tanks are affected. We have made this change throughout the AD.

Request for Clarification of Part Number (P/N) Determination

US Airways states that the NPRM specifies determining the P/Ns of the MFLI of the fuel tank by reviewing maintenance records; however, upon review, US Airways found no reference to MFLI P/N position installation information. US Airways adds that there is no reference or baseline for determining the part installed in the MFLI position without tank entry and a visual check.

Although US Airways requested no change, we agree with their comment. The Relevant Service Information section of the NPRM specifies the following: “If the P/N for each MFLI cannot be determined from a records review, the related investigative actions include accomplishing a visual inspection of the internal bore of each MFLI using an endoscope to determine the type of MFLI that is installed.” This inspection can be done without entering the tank. We have made no change to the AD in this regard.

Request To Change Work Hours

US Airways also asks that the work hours specified in the NPRM be changed from 1 to 8 work hours to reflect a more realistic time to inspect the MFLI. US Airways states that since the units are installed in five to seven positions, depending on the type of airplane, one hour for accomplishing the actions, as estimated in the NPRM, is not sufficient.

We acknowledge and agree with US Airways' concern for the reasons stated. We have changed the Costs of Compliance section of this AD accordingly.

Explanation of Change to Applicability

We have revised the applicability of this AD to identify model designations as published in the most recent type certificate data sheet for the affected models.

Conclusion

We have carefully reviewed the available data, including the comments received, and determined that air safety and the public interest require adopting the AD with the changes described previously. These changes will neither increase the economic burden on any operator nor increase the scope of the AD.

Costs of Compliance

This AD affects about 621 airplanes of U.S. registry. The actions will take between 1 and 8 work hours per airplane, at an average labor rate of $65 per work hour. Based on these figures, the estimated cost of the AD for U.S. operators is between $40,365 and $322,920, or between $65 and $520 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-06-14 Airbus: Amendment 39-14523. Docket No. FAA-2005-23314; Directorate Identifier 2005-NM-189-AD.

Effective Date

(a) This AD becomes effective May 1, 2006.

Affected ADs

(b) None.

Applicability

(c) This AD applies to Airbus Model A318-111 and -112 airplanes; Model A319-111, -112, -113, -114, -115, -131, -132, and -133 airplanes; A320-111 airplanes; Model A320-211, -212, -214, -231, -232, and -233 airplanes; Model A321-111, -112, and -131 airplanes; and Model A321-211, -212, -213, -231, and -232 airplanes; certificated in any category; except airplanes on which Airbus Modification 27496 has been installed in production.

Unsafe Condition

(d) This AD results from several in-service incidents of wear and detachment of the top-stops from the magnetic fuel level indicators (MFLI). Such detachment allows the top-stop to move around the wing fuel tank, and the top-stop could come into contact or in close proximity with a gauging probe, resulting in compromise of the air gap between the probe and the structure and creating a potential ignition source. We are issuing this AD to prevent an ignition source in the wing fuel tank in the event of a lightning strike, which could result in a fire or explosion.

Compliance

(e) You are responsible for having the actions required by this AD performed within the compliance times specified, unless the actions have already been done.

Review Airplane Maintenance Records/Investigative and Corrective Actions

(f) Within 65 months or 6,500 flight hours after the effective date of this AD, whichever is first: Review the airplane's maintenance records to determine the part number (P/N) of each MFLI of the wing fuel tanks in accordance with the Accomplishment Instructions of Airbus Service Bulletin A320-28-1138, dated March 18, 2005. If the P/N cannot be identified, or the P/N is identified in the “old P/N” column of the table in paragraph 1.L., “Interchangeability/Mixability,” of the service bulletin, before further flight, do the applicable related investigative and corrective actions by accomplishing all of the actions in accordance with the Accomplishment Instructions of the service bulletin.

Parts Installation

(g) As of the effective date of this AD, no person may install on any airplane any MFLI of the wing fuel tanks with a P/N identified in the “old P/N” column of the table in paragraph 1.L., “Interchangeability/Mixability,” of Airbus Service Bulletin A320-28-1138, dated March 18, 2005.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directive F-2005-108, dated July 6, 2005, also addresses the subject of this AD.

Material Incorporated by Reference

(j) You must use Airbus Service Bulletin A320-28-1138, dated March 18, 2005, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 10, 2006.
Kalene C. Yanamura,
Acting Manager, Transport Airplane Directorate, Aircraft Certification Service.

[FR Doc. 06-2850 Filed 3-24-06; 8:45 am]

BILLING CODE 4910-13-P